DEPARTMENT OF DEFENSE

Department of the Navy

[Docket ID: USN-2008-0037]

Privacy Act of 1974; System of Records

AGENCY: Department of the Navy, DoD.

ACTION: Notice to Amend a System of Records.

SUMMARY: The Department of the Navy is amending a system of records notice in its existing inventory of record systems subject to the Privacy Act of 1974, (5 U.S.C. 552a), as amended.

DATES: This proposed action will be effective without further notice on May 30, 2008 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: April 24, 2008.
Patricia Toppings,
OSD Federal Register Liaison Officer, Department of Defense.

N04066-4

System name:

Navy Lodge Records.

Changes:

* * * * *

Authority for maintenance of the system:

Delete entry and replace with “10 U.S.C. 5013, Secretary of the Navy and E.O. 9397 (SSN).”

Purpose(s):

Delete “insure” and replace with “ensure”. At end of entry add “The SSN is required to query the Defense Manpower Data Center's database to determine an individual's eligibility to stay in a Navy Lodge.”

* * * * *

System manager(s) and address:

Delete paragraph 2 and replace with “Record Holder: Director, Navy Lodge Program, Navy Exchange Service Command, 3280 Virginia Beach Boulevard, Virginia Beach, VA 23452-5724. Individual record holders within the central system may be contacted through the Director, Navy Lodge Program.”

Notification procedure:

Delete entry and replace with “Individuals seeking to determine whether this system of records contains information about themselves should address written and signed inquiries to the Commander, Navy Exchange Service Command, 3280 Virginia Beach Boulevard, Virginia Beach, VA 23452-5724.

In the initial inquiry the requester must provide full name, Social Security Number, and location of the last Navy Lodge where they had dealings. A list of other offices the requester may visit will be provided after initial contact is made with the office listed above. At the time of a personal visit, requesters must provide proof of identity containing the requester's signature.”

Record access procedures:

Delete entry and replace with “Individuals seeking access to records should address written and signed inquiries to the Commander, Navy Exchange Service Command, 3280 Virginia Beach Boulevard, Virginia Beach, VA 23452-5724.

Requesters must provide full name, Social Security Number, and location of the last Navy Lodge where they had dealings. A list of other offices the requester may visit will be provided after initial contact is made with the office listed above. At the time of a personal visit, requesters must provide proof of identity containing the requester's signature.”

* * * * *

Record source categories:

Delete entry and replace with “Individual and Navy Lodge records.”

* * * * *

N04066-4

System name:

Navy Lodge Records.

System location:

Navy Exchange System Worldwide. Coordinator for System: Navy Exchange Service Command, 3280 Virginia Beach Boulevard, Virginia Beach, VA 23452-5724.

Categories of individuals covered by the system:

Patrons and guests authorized lodging at a Navy Exchange Navy Lodge.

Categories of records in the system:

Reservation request; guest registration card; Navy Lodge guest folio.

Authority for maintenance of the system:

10 U.S.C. 5013, Secretary of the Navy and E.O. 9397 (SSN).

Purpose(s):

To keep a record of reservations to ensure orderly room assignment and avoid improper booking; to record registration and payment of accounts; to verify proper usage by eligible patrons; cash control; to gather occupancy data; to determine occupancy breakdown; and to account for rentals and furnishings. The SSN is required to query the Defense Manpower Data Center's database to determine an individual's eligibility to stay in a Navy Lodge.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows: The “Blanket Routine Uses” that appear at the beginning of the Navy's compilation of systems notices apply to this system.

Policies and practices for storing, retrieving, accessing, retaining, and disposing of records in the system:

Storage:

The media in which these records are maintained vary, but include: Folio card; ledger; guest registration cards; and local copies and reports of central system reports.

Retrievability:

Name and Social Security Number.

Safeguards:

Records are maintained in supervised locked files.

Retention and disposal:

Records are kept for two years and then destroyed.

System manager(s) and address:

Policy Official: Commander, Navy Exchange Service Command, 3280 Virginia Beach Boulevard, Virginia Beach, VA 23452-5724.

Record Holder:

Director, Navy Lodge Program, Navy Exchange Service Command, 3280 Virginia Beach Boulevard, Virginia Beach, VA 23452-5724. Individual record holders within the central system may be contacted through the Director, Navy Lodge Program.

Notification procedure:

Individuals seeking to determine whether this system of records contains information about themselves should address written and signed inquiries to the Commander, Navy Exchange Service Command, 3280 Virginia Beach Boulevard, Virginia Beach, VA 23452-5724.

In the initial inquiry the requester must provide full name, Social Security Number, and location of the last Navy Lodge where they had dealings. A list of other offices the requester may visit will be provided after initial contact is made with the office listed above. At the time of a personal visit, requesters must provide proof of identity containing the requester's signature.

Record access procedures:

Individuals seeking access to records should address written and signed inquiries to the Commander, Navy Exchange Service Command, 3280 Virginia Beach Boulevard, Virginia Beach, VA 23452-5724.

Requesters must provide full name, Social Security Number, and location of the last Navy Lodge where they had dealings. A list of other offices the requester may visit will be provided after initial contact is made with the office listed above. At the time of a personal visit, requesters must provide proof of identity containing the requester's signature.

Contesting record procedures:

The Navy's rules for accessing records, and for contesting contents and appealing initial agency determinations are published in Secretary of the Navy Instruction 5211.5; 32 CFR part 701; or may be obtained from the system manager.

Record source categories:

Individual and Navy Lodge records.

Exemptions claimed for the system:

None.

[FR Doc. E8-9393 Filed 4-29-08; 8:45 am]

BILLING CODE 5001-06-P